DEPARTMENT OF VETERANS AFFAIRS

Privacy Act of 1974; System of Records

AGENCY: Department of Veterans Affairs.

ACTION: Notice of Amendment of System of Records; correction.

SUMMARY: The Department of Veterans Affairs (VA) published a notice in the Federal Register on May 8, 2008 (73 FR 26192), amending a system of records by renaming and renumbering the system. The document inadvertently contained two typographical errors, and this document corrects those errors.

DATES: Effective Date: This correction is effective June 4, 2008.

FOR FURTHER INFORMATION CONTACT: Stephania H. Putt, Veterans Health Administration (VHA), Privacy Officer, Department of Veterans Affairs, 810 Vermont Avenue, NW., Washington, DC 20420, (704) 245-2492.

SUPPLEMENTARY INFORMATION: We published an amendment to a system of records formerly entitled “Healthcare Eligibility Records-VA” (89VA19) on May 8, 2008 (73 FR 26192). That document renamed and renumbered the system of records to “Income Verification Records-VA” (89VA16), as well as revised the “Description of Systems of Records”; “Routine Use Disclosures of Data in the System”; “Categories of Records in the System”; “Routine Uses of Records Maintained in the System”; and “Retrievability.” In one place we inadvertently omitted the new system number after the new title and in two other places the old system number appears. This document corrects those errors.

In FR Doc. E8-10230 published on May 8, 2008 (73 FR 26192), make the following corrections:

On page 26193, first column, in the paragraph entitled “I. Description of Revised System of Records” insert the new system number “(89VA16)” after the end quote mark of “Income Verification Records-VA” (89VA16). On the same page, third column, immediately above and below the SYSTEM NAME heading remove “89VA19” and add, in each place, “89VA16”.

Dated: May 29, 2008.
Robert C. McFetridge,
Assistant to the Secretary for Regulation Policy and Management.

[FR Doc. E8-12381 Filed 6-3-08; 8:45 am]

BILLING CODE 8320-01-P